DEPARTMENT OF HEALTH AND HUMAN SERVICES

National Institutes of Health

National Center for Research Resources; Notice of Closed Meetings

Pursuant to section 10(d) of the Federal AdvisorY Committee Act, as amended (5 U.S.C. Appendix 2), notice is hereby given of the following meetings.

The meetings will be closed to the public in accordance with the provisions set forth in sections 552b(c)(4) and 552b(c)(6), Title 5 U.S.C., as amended. The grant applications and the discussions could disclose confidential trade secrets or commerical property such as patentable material, and personal information concerning individuals associated with the grant applications, the disclosure of which would constitute a clearly unwarranted invasion of personal privacy.

Name of Committee: National Center for Research Resources Special Emphasis Panel; Scientific and Technical Review Board on Biomedical and Behavioral Research Facilities.

Date: May 14, 2003.

Time: 2 p.m. to adjournment.

Agenda: To review and evaluate grant applications.

Place: One Democracy Boulevard, 6701 Democracy Boulevard, Bethesda, MD 20817, (Telephone Conference Call).

Contact Person: D.G. Patel, PhD, Scientific Review Administator, National Institutes of Health, National Center For Research Resources, Office of Review, 6701 Democracy Boulevard, 1 Democracy Plaza, Room 1070, Bethesda, MD 20892, 301-435-0824, pateldg@mail.nih.gov.

This notice is being publlished less than 15 days prior to the meeting due to the timing limitations imposed by the review and funding cycle.

Name of Committee: National Center for Research Resources Special Emphasis Panel, Research Infrastructure.

Date: May 22-23, 2003.

Time: May 22, 2003, 8 a.m. to adjournment.

Agenda: To review and evaluate grant applications.

Place: Hyatt Regency Bethesda, One Bethesda Metro Center, 7400 Wisconsin Avenue, Bethesda, MD 20814.

Contact Person: Guo Zhang, PhD, MPH, Scientific Review Administrator, Office of Review, National Center for Research Resources, National Institutes of Health, 6701 Democracy Boulevard, 1 Democracy Plaza, Room 1064, Bethesda, MD 20814-9692, 301-435-0812, zhanggu@mail.nih.gov.

This notice is being published less than 15 days prior to the meeting due to the timing limitations imposed by the review and funding cycle.

Name of Committee: National Center for Research Resources Special Emphasis Panel; Research Infrastructure.

Date: May 28-29, 2003.

Time: May 28, 2003, 8 a.m. to adjournment.

Agenda: To review and evaluate grant applications.

Place: Hyatt Regency Bethesda, One Bethesda Metro Center, 7400 Wisconsin Avenue, Bethesda, MD 20814.

Contact Person: Carol Lambert, PhD, Scientific Review Administrator, Office of Review, National Center for Research Resources, National Institutes of Health, 6701 Democracy Boulevard, 1 Democracy Plaza, Room 1076, Bethesda, MD 20892-4874, 301-435-0814, lambert@mail.nih.gov.

Name of Committee: National Center for Research Resources Special Emphasis Panel; Clinical Research

Date: June 5, 2003.

Time: 10:30 a.m. to adjournment.

Agenda: To review and evaluate grant applications.

Place: Holiday Inn Bethesda, 8120 Wisconsin Avenue, Bethesda, MD 20814.

Contact Person: Mohan Viswanathan, PhD, Scientific Review Administrator, National Center for Research Resources, National Institutes of Health, Office of Review, 6701 Democracy Boulevard, 1 Democracy Plaza, Room 1084, Bethesda, MD 20892, 301-435-0829, viswanathanm@ncrr.nih.gov.

(Catalogue of Federal Domestic Assistance Program Nos. 93.306, Comparative Medicine; 93.333, Clinical Research; 93.371, Biomedical Technology; 93.389, Research Infrastructure, 93.306, 93.333, National Institutes of Health, HHS)
Dated: May 7, 2003.
Anna P. Snouffer,
Deputy Director, Office of Federal Advisory Committee Policy.

[FR Doc. 03-12099 Filed 5-14-03; 8:45 am]

BILLING CODE 4140-01-M